DEPARTMENT OF ENERGY

Federal Energy Regulatory Commission

[Docket Nos. RM01-12-000 et al.]

Errata Notice

June 19, 2002.

In the matter of: RM01-12-000, RT01-99-000, 001, 002 and 003, RT01-95-000, 001 and 002, RT01-86-000, 001 and 002, RT01-2-000, 001, 002 and 003, RT01-98-000; Electric Market Design and Structure, Regional Transmission Organizations, New York Independent System Operator, Inc., Bangor Hydro-Electric Company, PJM Interconnection, L.L.C., and PJM Interconnection, L.L.C.

The “Notice of Request for Comments on Timeline and Report by the Northeast Independent System Operators on Seams Resolution” issued June 18, 2002,¹ needs to be corrected as follows:

¹ The “Notice of Request for Comments on Timeline and Report by the Northeast Independent System Operators on Seams Resolution” issued on June 18, 2002, is scheduled to be published in the Federal Register on Tuesday, June 25, 2002.

In the caption, Midwest Independent System Operator, Docket No. RT01-87-000 and Alliance Companies, Docket No. EL02-65-000 should be deleted and Electric Market Design and Structure, Docket No. RM01-12-000, should be added.

In the first paragraph, the fourth and fifth sentences should read as follows: “The Federal Energy Regulatory Commission requested that these independent system operators incorporate the views of the state commissions and affected stakeholders into the seams resolution plan. Toward this end, the Federal Energy Regulatory Commission advised the independent system operators to coordinate their efforts with the state commissions and affected stakeholders.”

Magalie R. Salas,
Secretary.

[FR Doc. 02-16246 Filed 6-26-02; 8:45 am]

BILLING CODE 6717-01-P